DEPARTMENT OF COMMERCE

International Trade Administration

Lawrence Technological University, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC 20230.

Comments: None received. Decision: Approved. We know of no instrument of equivalent scientific value to the foreign instrument described below, for such purposes as this is intended to be used, that was being manufactured in the United States at the time of its order.

Docket Number: 11-022. Applicant: Lawrence Technological University, 21000 W. 10 Mile Road, Southfield, MI 48075. Instrument: FEI Quanta 450 FEG Electron Microscope. Manufacturer: FEI Company, Brno, Czech Republic. Intended Use: See notice at 76 FR 29725, May 23, 2011. Reasons: The instrument will be used to study polymers for biomedical applications; metals and ceramics used in orthopaedic implants; cement used in construction; lubricated components in automotives; and electrode materials in lithium ion batteries.

Docket Number: 11-027. Applicant: U.C. Davis, One Shields Avenue, Davis, CA 95616. Instrument: Sacher Lasertechnik Laser System. Manufacturer: Sacher Lasertechnik, LLC, Marburg, Germany. Intended Use: See notice at 76 FR 29725, May 23, 2011. Reasons: The instrument will be used for scientific research related to the development of a new optical technique for analyzing biological cells, for applications in biological and biomedical sciences.

Dated: June 20, 2011.
Gregory W. Campbell,
Director, Subsidies Enforcement Office, Office of Policy, Import Administration.

[FR Doc. 2011-16069 Filed 6-24-11; 8:45 am]

BILLING CODE 3510-DS-P